NUCLEAR REGULATORY COMMISSION

[NRC-2008-0500]

License Renewal Interim Staff Guidance LR-ISG-2007-01: License Renewal Interim Staff Guidance Process, Revision 1; Notice of Availability

AGENCY: Nuclear Regulatory Commission (NRC).

ACTION: Notice of availability.

SUMMARY: The NRC is issuing the final License Renewal Interim Staff Guidance (LR-ISG) LR-ISG-2007-01, “License Renewal Interim Staff Guidance Process, Revision 1” (revised LR-ISG process). This process describes the basic framework for developing and implementing interim changes to certain NRC license renewal guidance documents. These documents facilitate the implementation of and NRC staff review of license renewal applications submitted in accordance with Title 10 of the Code of Federal Regulations (10 CFR), Part 54, “Requirements for Renewal of Operating Licenses for Nuclear Power Plants,” and Part 51, “Environmental Protection Regulations for Domestic Licensing and Related Regulatory Functions” of 10 CFR. The revised LR-ISG process supersedes the existing process issued on December 12, 2003, entitled, “Process for Interim Staff Guidance.” An electronic copy of the revised LR-ISG process is available in the NRC's Agencywide Documents Access and Management System (ADAMS) under Accession No. ML091950069.

FOR FURTHER INFORMATION CONTACT: Mr. Matthew Homiack, Division of License Renewal, Office of Nuclear Reactor Regulation, U.S. Nuclear Regulatory Commission, Washington, DC 20555-0001; telephone 301-415-1683; or e-mail Matthew.Homiack@nrc.gov.

ADDRESSES: Documents created or received after November 1, 1999, are available electronically at the NRC's Public Electronic Reading Room on the Internet at http://www.nrc.gov/reading-rm/adams.html. From this site, the public can gain entry into ADAMS. If you do not have access to the Internet or if there are any problems in accessing the documents located in ADAMS, contact the NRC Public Document Room reference staff at 1-800-397-4209, 301-415-4737, or by e-mail at PDR.Resource@nrc.gov.

The NRC posts LR-ISGs on its public Web page under the “License Renewal” heading at http://www.nrc.gov/reading-rm/doc-collections/isg.

SUPPLEMENTARY INFORMATION:

Background

On December 12, 2003, the NRC staff issued a document entitled, “Process for Interim Staff Guidance” (ML023520620), which is Revision 0 of the LR-ISG process (previous LR-ISG process). This document, developed with input from stakeholders, describes a process under which the NRC staff may evaluate proposed changes to certain license renewal guidance documents and then, if warranted, implement a guidance document change through issuance of an LR-ISG. In this way, guidance addressing new insights, lessons learned, and emergent issues may be issued without the NRC staff needing to publish a complete license renewal guidance document revision. Approved LR-ISGs are eventually incorporated into a formal guidance document revision; however, until publication of such a revision, the NRC staff will review license renewal applications in accordance with the LR-ISG and stakeholders may use the LR-ISG as they deem appropriate. Under the LR-ISG process, the NRC staff or stakeholders may propose changes to certain license renewal guidance documents. The process provides for interactions with stakeholders during LR-ISG development and the NRC staff provides the opportunity for public comment on each proposed LR-ISG through notices published in the Federal Register.

In 2007, the NRC staff created LR-ISG-2007-01 for updating the actual LR-ISG process. The NRC staff identified the need to revise the process to reflect issuance of revised license renewal guidance documents in September 2005. The NRC staff also identified the need to extend the process to facilitate the development and implementation of changes to NRC guidance documents associated with the environmental review of license renewal applications under 10 CFR Part 51. The need to make administrative changes to the LR-ISG process, such as references to the current NRC organizational structure, was also identified.

On September 6, 2007, the NRC's Office of the Inspector General (OIG) issued OIG-07-A-15, “Audit of the NRC's License Renewal Program” (ML072490486). In its audit, the OIG identified an area for improving the LR-ISG process. Concerning evaluation of NRC staff positions in LR-ISGs for backfit application, in page 56 of its report, the OIG stated that, “* * * there is no documented means to determine whether [LR-ISGs] have met the provisions in 10 CFR 54.37(b) and thereby not subject to backfitting.” Consequently, OIG recommended that the NRC, “Establish a review process to determine whether or not Interim Staff Guidance meets the provisions of 10 CFR 54.37(b), and document accordingly.” The NRC staff agreed with the OIG's recommendation and, accordingly, decided to make revisions to the LR-ISG process.

On March 26, 2009, the NRC staff published in the Federal Register, 74 FR 13272, a request for public comment on a proposed LR-ISG process revision (ML082180346). This document was issued as draft LR-ISG-2007-01. In this notice the NRC staff also requested comment on a proposed revision to NRC Regulatory Issue Summary (RIS) 2007-16, “Implementation of the Requirements of 10 CFR 54.37(b) for Holders of Renewed Licenses.” The NRC staff proposed changes to the RIS to clarify the role of the LR-ISG process for including “newly identified” systems, structures, and components in accordance with 10 CFR 54.37(b).

As published in the Federal Register, 74 FR 19109, on April 27, 2009, the NRC staff granted an extension to the public comment period at the request of the Nuclear Energy Institute (NEI). As to the basis for granting this request, the NRC staff agreed with NEI that discussions during a public meeting on April 29, 2009, could be beneficial to allow stakeholders to better prepare comments on the proposed LR-ISG process revision and RIS. In addition, the NRC staff believed that receipt of comments informed by discussions at the meeting would be beneficial in finalizing the two documents.

During the public meeting at NRC headquarters on April 29, 2009, the proposed LR-ISG process revision and revision of RIS 2007-16 were discussed. NEI representatives provided comments; however, no other stakeholder provided comments or asked questions. The discussions are summarized in a document entitled, “Summary of the License Renewal Meeting between the U.S. Nuclear Regulatory Commission Staff and the Nuclear Energy Institute,” dated May 26, 2009 (ML091310269).

The extended comment period ended on May 27, 2009. By letter of the same date, the NRC received comments from NEI (ML091540208). No other comments were received. The NRC staff has considered NEI's comments from its letter dated May 27, 2009, and from the April 29, 2009, public meeting in developing the revised LR-ISG process. These comments and the NRC staff's responses are discussed in the Comments and Responses section of this notice.

Final Action

By this action, the NRC is issuing the revised LR-ISG process as final LR-ISG-2007-01. The NRC staff will now use this process to guide the development and implementation of LR-ISGs. Below the NRC staff describes the more significant changes made to the previous LR-ISG process.

(1) The LR-ISG process is extended to cover the evaluation and implementation of interim guidance concerning certain guidance documents associated with the staff's environmental review of license renewal applications under 10 CFR Part 51. These documents are NRC Regulatory Guide (RG) 4.2, Supplement 1, “Preparation of Supplemental Environmental Reports for Applications to Renew Nuclear Power Plant Operating Licenses,” dated September 2000 (ML003710495), and NUREG-1555, “Environmental Standard Review Plan,” Supplement 1, “Operating License Renewal,” dated March 2000 (ML003702019).

(2) The LR-ISG process is revised to specify that the NRC staff will evaluate and document its determinations as to whether LR-ISGs meet the provisions of 10 CFR 54.37(b). The LR-ISG process is also augmented to focus on evaluation and documentation of the NRC staff's backfitting evaluation of LR-ISGs under 10 CFR 50.109. These improvements address the OIG recommendation.

(3) The NRC staff has eliminated the former “clarification” and “compliance” LR-ISG designations. As an alternative, the NRC staff will document in a backfitting discussion section of each LR-ISG the determinations and bases as to the applicability of 10 CFR 54.37(b) and 10 CFR 50.109.

(4) The LR-ISG process is revised to reflect the September 2005 publication of these revised safety license renewal guidance documents: NUREG-1800, Revision 1, “Standard Review Plan for Review of License Renewal Applications for Nuclear Power Plants” (ML052770566), NUREG-1801, Revision 1, Volumes 1 and 2, “Generic Aging Lessons Learned (GALL) Report” (ML052770419 and ML052780376), and NRC Regulatory Guide 1.188, Revision 1, “Standard Format and Content for Applications to Renew Nuclear Power Plant Operating Licenses” (ML051920430).

Comments and Responses

In response to the request for public comment published in the Federal Register, 74 FR 13272, NEI provided comments on both the proposed LR-ISG process revision and proposed revision to RIS 2007-16. The NRC staff plans to issue the final revision to RIS 2007-16 separately from the LR-ISG process. As such, this notice only addresses comments that the NRC staff has determined to be applicable to the proposed LR-ISG process revision. Also, NEI's comments from the April 29, 2009, public meeting are consistent with those provided in its May 27, 2009 letter. These comments are identified by number in the NEI's letter. The NRC staff's responses to each comment follow.

(1) NEI's first comment addresses the proposed revision to RIS 2007-16. The NRC staff is addressing this comment in the revision to RIS 2007-16, which is planned to be issued separately.

(2) NEI commented that it agrees with the NRC staff's proposed change to RIS 2007-16 to include a backfit review of all LR-ISG documents under 10 CFR 50.109. However, NEI further commented, this addition of backfit review for LR-ISGs should have no impact on implementation or interpretation of 10 CFR 54.37(b). The NRC staff agrees with NEI's comment and no changes have been made from the proposed LR-ISG process revision. The revised LR-ISG process contains the framework for developing and implementing LR-ISGs, including provisions for determining whether 10 CFR 54.37(b) and 10 CFR 50.109 apply to an LR-ISG, and according documentation. The LR-ISG process references RIS 2007-16, which provides guidance on interpretation and licensee implementation of 10 CFR 54.37(b).

NEI also commented that it agrees with the NRC staff's proposed change to extend the LR-ISG process to include environmental review issues. As such, the NRC staff has made no changes to the proposed LR-ISG process revision.

(3) NEI recommended that the NRC consider splitting RIS 2007-16 into two separate documents, one on implementation of 10 CFR 54.37(b) and the other on the LR-ISG process, including the requirement for backfit analysis for proposed LR-ISGs. The NRC staff agrees with NEI's recommendation that the documents are separate. The two documents are the revised LR-ISG process and RIS 2007-16. The NRC staff intends for the focus of these two documents to be as described in the response to the previous comment.

In its comments, NEI also suggested that the NRC include the requirement for “backfit analysis” for LR-ISGs. The NRC staff would like to clarify that, as described in the proposed LR-ISG process revision, the NRC staff will perform a backfitting review of LR-ISGs; however, the NRC staff will only prepare a backfitting analysis in certain cases, which is consistent with the requirements of 10 CFR 50.109. If, as a result of its backfitting review, the NRC staff determines that an LR-ISG constitutes backfitting, as defined in 10 CFR 50.109(a)(1), then a backfitting analysis is required to demonstrate that backfitting is necessary because it constitutes a substantial increase in protection to public health and safety or the common defense and security, and the cost is justified in light of the substantial increase. If an LR-ISG constitutes backfitting, but one or more of the exceptions in 10 CFR 50.109(a)(4)(i) through (iii) apply, then a backfitting analysis is not required, but the NRC staff is required to prepare a documented backfitting evaluation.

(4) NEI commented that the NRC deleted from RIS 2007-16, Revision 0, NRC's agreement to inform renewed license holders of new LR-ISGs and to inform the industry of “newly identified” SSCs. NEI suggested that this information could be added to Section 4.2.4 of the LR-ISG process. NEI indicated that this information is valuable to licensees and requested that the NRC staff retain the expectation to communicate it.

The NRC staff agrees with NEI's comment to include this information in Section 4.2.4 of the LR-ISG process. Accordingly, the revised LR-ISG process states that when an LR-ISG constitutes backfitting under 10 CFR 50.109, or communicates “newly-identified” SSCs under the provisions of 10 CFR 54.37(b), the NRC staff will notify applicable renewed license holders as appropriate, for example, by issuing letters or a generic communication. The NRC staff will continue to make draft and final LR-ISGs publicly available, and notices of availability or the opportunity to provide comments will be published in the Federal Register. Electronic copies of draft and final LR-ISGs will be made available on the NRC's public Web site.

Dated at Rockville, Maryland, this 7th day of August, 2009.
For the Nuclear Regulatory Commission.
Samson S. Lee,
Deputy Director, Division of License Renewal, Office of Nuclear Reactor Regulation.

[FR Doc. E9-19646 Filed 8-14-09; 8:45 am]

BILLING CODE 7590-01-P